DEPARTMENT OF HEALTH AND HUMAN SERVICES

Health Resources and Services Administration

Agency Information Collection Activities: Proposed Collection: Comment Request

In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Telehealth Resource Center Performance Measurement Tool (OMB No. 0915-xxxx)-[New]

To ensure the best use of public funds and to meet the Government Performance Review Act (GPRA) requirements, HRSA's Office for the Advancement of Telehealth (OAT), in collaboration with the Telehealth Resource Centers (TRCs), created a set of performance measures that grantees can use to evaluate the technical assistance services provided by the TRCs. Grantee goals are to customize the provision of telehealth technical assistance across the country. The TRCs provide technical assistance to health care organizations, health care networks and health care providers in the implementation of cost-effective telehealth programs to serve rural and medically underserved areas and populations. The TRC Performance Indicator Data Collection Tool contains the data elements that would need to be collected by the TRCs in order to report on the performance metrics. This tool can be easily translated into the web-based data collection system, Performance Improvement and Measurement System (PIMS). Reporting via PIMS allows the TRCs and OAT to track project performance. The tool assists in the production of annual reports, available to Congress, that demonstrate the value added from the TRC Grant Program.

The annual estimate of burden is as follows:

Instrument | Number of respondents | Responses per respondent | Total responses | Hours per response | Total burden hours
Telehealth Resource Center Performance Data Collection Tool | 14 | 72 | 1,008 | 0.07 | 70.56
Total | 14 |  | 1,008 |  | 70.56

Email comments to paperwork@hrsa.gov or mail the HRSA Reports Clearance Officer, Room 10-29, Parklawn Building, 5600 Fishers Lane, Rockville, MD 20857. Written comments should be received within 60 days of this notice.

Dated: July 25, 2012.
Wendy Ponton,
Director, Office of Management.

[FR Doc. 2012-18945 Filed 8-1-12; 8:45 am]

BILLING CODE 4165-15-P